DEPARTMENT OF THE INTERIOR

National Park Service

[N6688; NPS-WASO-NAGPRA-NPS0041428; PPWOCRADN0-PCU00RP14.R50000]

Notice of Intended Repatriation: Placer County Museums Division, Auburn, CA

AGENCY: National Park Service, Interior.

ACTION: Notice.

SUMMARY: In accordance with the Native American Graves Protection and Repatriation Act (NAGPRA), the Placer County Museums Division intends to repatriate certain cultural items that meet the definition of objects of cultural patrimony and that have a cultural affiliation with the Indian Tribes or Native Hawaiian organizations in this notice.

DATES: Repatriation of the cultural items in this notice may occur on or after January 16, 2026.

ADDRESSES: Send additional, written requests for repatriation of the cultural items in this notice to Bryanna Ryan, Placer County Museums Division, 101 Maple Street, Auburn, CA 95603, email bryan@placer.ca.gov.

SUPPLEMENTARY INFORMATION: This notice is published as part of the National Park Service's administrative responsibilities under NAGPRA. The determinations in this notice are the sole responsibility of the Placer County Museums Division, and additional information on the determinations in this notice, including the results of consultation, can be found in the summary or related records. The National Park Service is not responsible for the determinations in this notice.

Abstract of Information Available

A total of four cultural items have been requested for repatriation. The four objects of cultural patrimony are one bow with three arrows made by Jack Suehead (Object Numbers 1986.67.318.1-.4). The objects were acquired by the Placer County Museums Division by donation in 1986. Information about how the donor, Bernice Pate, acquired the objects is unknown. Pate's husband, Waldo Pate, was a physician who treated local Indians. He often received baskets as payment for medical services and the couple continued collecting through purchases and gifts. In the 1960s, Bernice Pate served as the executive director of the California Indian Commission. The four objects of cultural patrimony are culturally affiliated with the Southern Maidu (Nisenan) and originated within their aboriginal territory in the vicinity of Placer County. The objects have not been exposed to any potentially hazardous substances while in the possession of the Placer County Museums Division. There is no visible evidence of prior treatment and no information indicating prior treatment.

Determinations

The Placer County Museums Division has determined that:

• The four objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the United Auburn Indian Community of the Auburn Rancheria of California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 16, 2026. If competing requests for repatriation are received, the Placer County Museums Division must determine the most appropriate requestor prior to repatriation. Requests for joint repatriation of the cultural items are considered a single request and not competing requests. The Placer County Museums Division is responsible for sending a copy of this notice to the Indian Tribes and Native Hawaiian organizations identified in this notice and to any other consulting parties.

Authority: Native American Graves Protection and Repatriation Act, 25 U.S.C. 3004 and the implementing regulations, 43 CFR 10.9.

Dated: November 24, 2025.
Melanie O'Brien,
Manager, National NAGPRA Program.

[FR Doc. 2025-23040 Filed 12-16-25; 8:45 am]

BILLING CODE 4312-52-P